FEDERAL COMMUNICATIONS COMMISSION

[CC Docket No. 01-92, DA 02-1740]

Routing and Rating of Traffic by Incumbent Local Exchange Carriers (ILECs)

AGENCY: Federal Communications Commission.

ACTION: Notice; solicitation of comments.

SUMMARY: In a public notice in this proceeding released on July 18, 2002, the Wireline Competition Bureau sought comment on the Sprint Petition for Declaratory Ruling regarding the routing and rating of traffic by ILECs and on BellSouth's opposition to the petition, including the appropriate intercarrier compensation applicable to this traffic, both under our existing rules and prospectively.

DATES: Comments due August 8, 2002 and reply comments due August 19, 2002.

ADDRESSES: Federal Communications Commission, 445 12th St., SW., Washington, DC 20554. See SUPPLEMENTARY INFORMATION section for where and how to file comments.

FOR FURTHER INFORMATION CONTACT: Steve Morris or Victoria Schlesinger, Pricing Policy Division, Wireline Competition Bureau, (202) 418-1530, or Gregory Vadas, Policy Division, Wireless Telecommunications Bureau, (202) 418-1798.

SUPPLEMENTARY INFORMATION: On May 9, 2002, Sprint Corporation (Sprint), on behalf of its wireless division, filed a petition for declaratory ruling seeking confirmation that: (1) An incumbent local exchange carrier (ILEC) may not refuse to load telephone numbering resources of an interconnecting carrier, and (2) an ILEC may not refuse to honor the routing and rating points designated by that interconnecting carrier. Sprint's concern is its contention that, in certain circumstances, BellSouth has signaled its intention to refuse to program its LATA tandem switches with Sprint's NPA-NXXs. In particular, where Sprint wishes to associate an NPA-NXX with a rate center of an ILEC other than BellSouth, and the rating and routing points are different (e.g., the routing point could be Sprint's MSC, but the rating point would be an independent ILEC's rate center), Sprint contends that BellSouth's position is to refuse to load its LATA tandem switch with Sprint's call routing and rating information. On May 22, 2002, BellSouth filed an opposition to the Sprint Petition stating that it is currently loading NPA-NXXs that Sprint acquires and that it is not currently adversely affecting the routing of any Sprint traffic. In its opposition, BellSouth states that it believes that the rating and routing arrangements described above result in inappropriate intercarrier compensation, claiming that “[v]arious forms of intercarrier compensation, including reciprocal compensation, access charges, and inter-company settlements could apply to this traffic.” We seek comment on the practices and issues raised in Sprint's petition and BellSouth's opposition, including the appropriate intercarrier compensation applicable to the traffic described above, both under our existing rules and prospectively.

Sprint's Petition and BellSouth's Opposition raise interconnection and intercarrier compensation issues under consideration in CC Docket No. 01-92, Developing a Unified Intercarrier Compensation Regime, 66 FR 28410, May 23, 2001. Accordingly, we ask that parties file their pleadings in CC Docket No. 01-92. The petition and other pleadings will be incorporated into CC Docket No. 01-92.

Pursuant to sections 1.415 and 1.419 of the Commission's rules, interested parties may file comments on or before August 8, 2002, and reply comments on or before August 19, 2002. Comments may be filed using the Commission's Electronic Comment Filing System (ECFS) or by filing paper copies. Comments filed through the ECFS can be sent as an electronic file via the Internet to http://www.fcc.gov/e-file/ecfs.html. Generally, only one copy of an electronic submission must be filed. If multiple docket or rulemaking numbers appear in the caption of this proceeding, however, commenters must transmit one electronic copy of the filing to each docket or rulemaking number referenced in the caption. In completing the transmittal screen, commenters should include their full name, Postal Service mailing address, and the applicable docket or rulemaking number. Parties may also submit an electronic copy by Internet e-mail. To get filing instructions for e-mail comments, commenters should send an e-mail to ecfs@fcc.gov, and should include the following words in the body of the message: “get form <your email address>.” A sample form and directions will be sent in reply. Commenters also may obtain a copy of the ASCII Electronic Transmittal Form (FORM-ET) at http://www.fcc.gov/e-file/email.html. Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission. Regardless of whether parties choose to file electronically or by paper, parties should also file one copy of any documents filed in this docket with the Commission's copy contractor, Qualex International, Portals II, 445 12th Street SW., CY-B402, Washington, DC 20554 (telephone 202-863-2893; facsimile 202-863-2898) or via e-mail at qualexint@aol.com. In addition, one copy of each submission must be filed with the Chief, Pricing Policy Division, Wireline Competition Bureau, and Chief, Policy Division, Wireless Telecommunications Bureau, 445 12th Street, SW., Washington, DC 20554. Documents filed in this proceeding will be available for public inspection during regular business hours in the Commission's Reference Information Center, 445 12th Street, SW., Washington, DC 20554, and will be placed on the Commission's Internet site.

This proceeding will be governed by “permit-but-disclose” ex parte procedures that are applicable to non-restricted proceedings under section 1.1206 of the Commission's rules. Parties making oral ex parte presentations are reminded that memoranda summarizing the presentation must contain a summary of the substance of the presentation and not merely a listing of the subjects discussed. More than a one-or two-sentence description of the views and arguments presented generally is required. Other rules pertaining to oral and written presentations are set forth in section 1.1206(b) as well. In addition, interested parties are to file any written ex parte presentations in this proceeding with the Commission's Secretary, Marlene H. Dortch, 445 12th Street, SW., TW-B204, Washington, DC 20554, and serve with three copies each: Pricing Policy Division, Wireline Competition Bureau, Attn: Victoria Schlesinger, and Policy Division, Wireless Telecommunications Bureau, Attn: Gregory Vadas, 445 12th Street, SW., Washington, DC 20554. Parties shall also serve with one copy: Qualex International, Portals II, 445 12th Street, SW., Room CY-B402, Washington, DC 20554, (202) 863-2893.

Federal Communications Commission.
Deena Shetler,
Deputy Division Chief, Pricing Policy Division.

[FR Doc. 02-20176 Filed 8-7-02; 8:45 am]

BILLING CODE 6712-01-P